DEPARTMENT OF COMMERCE

International Trade Administration

[A-122-506]

Notice of Final Results of Antidumping Duty Administrative Review: Oil Country Tubular Goods From Canada

AGENCY: Import Administration, International Trade Administration, Department of Commerce.

SUMMARY: On June 8, 2000, the Department of Commerce (“the Department”) published the preliminary results of its administrative review of the antidumping duty order on oil country tubular goods from Canada. See Notice of Preliminary Results of Antidumping Duty Administrative Review: Oil Country Tubular Goods from Canada 65 FR 36407 (June 8, 2000) (“Preliminary Results”). This review covers one manufacturer/exporter, Atlas Tube, Inc. (“Atlas”), and the period December 1, 1998, through May 31, 1999. The period of review specified by the Department's opportunity to request administrative review was June 1, 1998, through May 31, 1999. However, due to the fact that the Department conducted a concurrent new shipper review of the same manufacturer/exporter for the period June 1, 1998, through November 30, 1998, this administrative review only covers the remainder of the period, December 1, 1998, through May 31, 1999. See Notice of Initiation of Administrative Review 64 FR 47167 (August 30, 1999). We gave interested parties an opportunity to comment on the Preliminary Results of review but received no comments. Therefore, these final results do not differ from the Preliminary Results, in which we found the dumping margin for Atlas to be 4.41 percent.

EFFECTIVE DATE: October 13, 2000.

FOR FURTHER INFORMATION CONTACT: Nithya Nagarajan, AD/CVD Enforcement, Group II, Office IV, Import Administration, International Trade Administration, U.S. Department of Commerce, 14th Street and Constitution Avenue, N.W., Washington, D.C. 20230; telephone (202) 482-5253.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR Part 351 (1999).

Background

On June 8, 2000, the Department published in the Federal Register (65 FR 36407) the Preliminary Results of this review. We invited parties to comment on our Preliminary Results. We did not receive any comments.

In the Preliminary Results, we found the dumping margin for Atlas to be 4.41 percent. We have now completed the administrative review in accordance with section 751 of the Act and continue to find the rate of 4.41 percent.

Scope of the Review

The products covered by this review include shipments of OCTG from Canada. This includes American Petroleum Institute (“API”) specification OCTG and all other pipe with the following characteristics except entries which the Department determined through its end-use certification procedure were not used in OCTG applications: Length of at least 16 feet; outside diameter of standard sizes published in the API or proprietary specifications for OCTG with tolerances of plus ⅛ inch for diameters less than or equal to 8⅝ inches and plus ¼ inch for diameters greater than 8⅝ inches, minimum wall thickness as identified for a given outer diameter as published in the API or proprietary specifications for OCTG; a minimum of 40,000 PSI yield strength and a minimum 60,000 PSI tensile strength; and if with seams, must be electric resistance welded. Furthermore, imports covered by this review include OCTG with non-standard size wall thickness greater than the minimum identified for a given outer diameter as published in the API or proprietary specifications for OCTG, with surface scabs or slivers, irregularly cut ends, ID or OD weld flash, or open seams; OCTG may be bent, flattened or oval, and may lack certification because the pipe has not been mechanically tested or has failed those tests. This merchandise is currently classifiable under the Harmonized Tariff Schedules (HTS) item numbers 7304.20, 7305.20, and 7306.20. The HTS item numbers are provided for convenience and U.S. Customs purposes. The written description remains dispositive.

Analysis of Comments Received

We did not receive any interested party comments on our Preliminary Results. Therefore, there is no Issues and Decision Memorandum for the final results of review.

Final Results of Review

We have determined that no changes to our analysis are warranted for purposes of these final results. As a result of this review, we determine that a 4.41 percent dumping margin exists for Atlas for the period December 1, 1998, through May 31, 1999.

Assessment

The Department shall determine, and the Customs Service shall assess, antidumping duties on all appropriate entries. We have calculated an importer-specific duty assessment rate based on the ratio of the total amount of antidumping duties calculated for the importer-specific sales to the total entered value of the same sales. The rate will be assessed uniformly on all entries by that particular importer made during the POR. The Department will issue appraisement instructions directly to the Customs Service.

Cash Deposit Requirements

The following deposit requirements will be effective upon completion of the final results of this administrative review for all shipments of OCTG from Canada entered, or withdrawn from warehouse, for consumption on or after the publication date of the final results of this new shipper review, as provided by section 751(a)(1) of the Act: (1) The cash deposit rate for Atlas will be the rate shown above; (2) for previously reviewed or investigated companies not listed above, the cash deposit rate will continue to be the company-specific rate published for the most recent period; (3) if the exporter is not a firm covered in this review, in a prior review, or the original investigation, but the manufacturer is, the cash deposit rate will be the rate established for the most recent period for the manufacturer of the merchandise; and (4) the cash deposit rate for all other manufacturers or exporters will continue to be 16.65 percent. This rate is the “All-Others” rate established in the less-than-fair-value investigation. These deposit requirements shall remain in effect until publication of the final results of administrative review for a subsequent review period.

Notification

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: October 5, 2000.
Troy H. Cribb,
Acting Assistant Secretary for Import Administration.

[FR Doc. 00-26384 Filed 10-12-00; 8:45 am]

BILLING CODE 3510-DS-P